SMALL BUSINESS ADMINISTRATION

[Disaster Declaration #13983 and #13984]

Alabama Disaster Number AL-00055

AGENCY: U.S. Small Business Administration.

ACTION: Amendment 1.

SUMMARY: This is an amendment of the Presidential declaration of a major disaster for Public Assistance Only for the State of Alabama (FEMA-4176-DR), dated 05/12/2014.

Incident: Severe Storms, Tornadoes, Straight-line Winds, and Flooding.

Incident Period: 04/28/2014 through 05/05/2014.

DATES: Effective Date: 06/02/2014.

Physical Loan Application Deadline Date: 07/11/2014.

Economic Injury (EIDL) Loan Application Deadline Date: 02/12/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Alabama, dated 05/12/2014, is hereby amended to include the following areas as adversely affected by the disaster.

Primary Counties: Houston, Washington.

All other information in the original declaration remains unchanged.

(Catalog of Federal Domestic Assistance Numbers 59002 and 59008)

James E. Rivera,
Associate Administrator for Disaster Assistance.

[FR Doc. 2014-13713 Filed 6-11-14; 8:45 am]

BILLING CODE 8025-01-P